DEPARTMENT OF TRANSPORTATION

Federal Aviation Administration

Weight and Balance Control Program Committee; Correction

AGENCY: Federal Aviation Administration (FAA), DOT.

ACTION: Notice of request for participation; correction.

SUMMARY: This document makes corrections to the notice of request of participation published in the Federal Register on May 28, 2003 (68 FR 31740), which announces the formation of the Weight and Balance Control Program Aviation Rulemaking Committee to conduct a review of AC 120-27C and other related guidance, and provide advice and recommendations.

FOR FURTHER INFORMATION CONTACT: Mr. Darcy Reed, 202-267-9948, or e-mail: Darch.D.Reed@faa.gov.

Correction

In the notice FR Doc. 03-13243, published on May 28, 2003 (68 FR 31740), make the following correction:

On page 31741, in the first column, first full paragraph, line one, correct “scheduled for June 24 and 25, 2003 in Washington, DC” to read “has been rescheduled; details on the meeting are available at http://www.faa.gov/avr/afs/avgarc/.”

Dated: Issued in Washington, DC on June 13, 2003.
David E. Cann,
Manager, Aircraft Maintenance Division, Flight Standards Service.

[FR Doc. 03-15527 Filed 6-18-03; 8:45 am]

BILLING CODE 4910-13-M